DEPARTMENT OF TRANSPORTATION

Pipeline and Hazardous Materials Safety Administration

Notice of Delays in Processing of Special Permits Applications

AGENCY: Office of Hazardous Materials Safety, Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue, SE., Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

R—Renewal Request.

P—Party To Exemption Request.

Dated: Issued in Washington, DC, on October 3, 2011.
Donald Burger,
Chief, General Approvals and Permits.

Modification to Special Permits
Application No. | Applicant | Reason for delay | Estimated date of completion
14167-M | Trinityrail, Dallas, TX | 4 | 10-31-2011
14741-M | Weatherford International, Fort Worth, TX | 4 | 10-31-2011
8826-M | Phoenix Air Group, Inc., Cartersville, GA | 4 | 10-31-2011
8815-M | Florex Explosives, Inc., Crystal River, FL | 4 | 10-31-2011
12561-M | Rhodia, Inc., Cranbury, NJ | 4 | 10-31-2011
14763-M | Weatherford International, Fort Worth, TX | 4 | 10-31-2011
14909-M | Lake Clark Air, Inc., Port Alsworth, AK | 4 | 10-31-2011
14860-M | Alaska Airlines, Seattle, WA | 4 | 10-31-2011
10656-M | Conference of Radiation Control Program Directors, Inc., Frankfort, KY | 4 | 11-30-2011
11406-M | Conference of Radiation Control Program Directors, Inc., Frankfort, KY | 4 | 11-30-2011
12629-M | TEA Technologies, Inc., Amarillo, TX | 4 | 11-30-2011
10898-M | Hydac Corporation, Bethlehem, PA | 3 | 11-30-2011
11670-M | Schlumberger Oilfield UK Plc Dyce, Aberdeen Scotland, Ab | 3 | 11-30-2011
14193-M | Honeywell International, Inc., Morristown, NJ | 4 | 11-30-2011
13336-M | Renaissance Industries, Inc., Sharpsville Operations M-1102, Sharpsville, PA | 4 | 10-31-2011
8723-M | Maine Drilling & Blasting, Auburn, NH | 4 | 11-30-2011
12929-M | Matheson Tr-Gas, Inc., Basking Ridge, NJ | 4 | 11-30-2011
14584-M | WavesinSolids LLC, State College, PA | 4 | 11-30-2011
7765-M | Carleton Technologies, Inc., Orchard Park, NY | 4 | 11-30-2011
13199-M | Carrier Corporation, Houston, TX | 4 | 11-30-2011
9758-M | Coleman Company, Inc., The, Wichita, KS | 4 | 11-30-2011
14921-M | ERA Helicopters LLC, Lake Charles, LA | 4 | 11-30-2011
13736-M | ConocoPhillips, Anchorage, AK | 4 | 10-31-2011
New Special Permit Applications
14813-N | Organ Recovery Systems, Des Plaines, IL | 4 | 10-31-2011
14872-N | Arkema, Inc., King of Prussia, PA | 4 | 11-30-2011
14929-N | Alaska Island Air, Inc., Togiak, AK | 4 | 11-30-2011
14951-N | Lincoln Composites, Lincoln, NE | 4 | 10-31-2011
14972-N | Air Products and Chemicals, Allentown, PA | 4 | 10-31-2011
15053-N | Department of Defense, Scott Air Force Base, IL | 4 | 11-30-2011
15080-N | Alaska Airlines, Seattle, WA | 1 | 11-30-2011
15199-N | Polskie Linie Lotnicze, LOT S.A. dba LOT Polish Airlines | 4 | 10-31-2011
15229-N | Linde Gas North America LLC, NEW PROVIDENCE, NJ | 4 | 11-30-2011
15233-N | ExpressJet Airlines, Inc., Houston, TX | 4 | 11-30-2011
15243-N | Katmai Air, LLC, Anchorage, AK | 4 | 11-30-2011
15257-N | GFS Chemicals, Columbus, OH | 4 | 11-30-2011
15258-N | Air Products and Chemicals, Inc., Tamaqua, PA | 4 | 11-30-2011
15263-N | Alaska Central Express, Anchorage, AK | 4 | 11-30-2011
15274-N | Coastal Helicopters, Juneau, AK | 4 | 11-30-2011
15317-N | The Dow Chemical Company, PHILADELPHIA, PA |  |
15322-N | Digital Wave Corporation, Englewood, CO | 4 | 11-30-2011
15334-N | Floating Pipeline Company Incorporated, Halifax, Nova Scotia | 4 | 11-30-2011
15338-N | Middle Fork Aviation, Challis, ID | 4 | 10-31-2011
14839-N | Matheson Tr-Gas, Inc., Basking Ridge, NJ | 3 | 11-30-2011
Party to Special Permits Application
9623-P | Austin Star Detonator Company (ASD), Brownsville, TX | 4 | 11-30-2011
10880-P | Austin Star Detonator Company (ASD), Brownsville, TX | 4 | 11-30-2011
10880-P | Southwest Energy LLC, Tucson, AZ | 4 | 11-30-2011
7887-P | WES & T LLC, Tulsa, OK | 4 | 11-30-2011
7887-P | GEM of Rancho Cordova, LLC dba PSC Environmental Services, Cordova, CA | 4 | 11-30-2011
8445-P | GEM of Rancho Cordova, LLC dba PSC Environmental Services, Cordova, CA | 4 | 11-30-2011
11984-P | GEM of Rancho Cordova, LLC dba PSC Environmental Services, Cordova, CA | 4 | 11-30-2011
13548-P | American Battery Corporation, Escondido, CA | 4 | 11-30-2011
13548-P | Art's Electric Inc., Longview, WA | 4 | 11-30-2011
12134-P | Riceland Foods, Inc., Stuttgart, AR | 4 | 11-30-2011
7887-P | Cesaroni Technology Inc., Sarasota, FL | 4 | 11-30-2011
10048-P | Chemical Analytics, Inc., Romulus, MI | 4 | 11-30-2011
8723-P | Maxam US, LLC, Salt Lake City, UT | 4 | 11-30-2011
12412-P | C.E.O. Performance Chemicals, Gulf Coast LLC DBA: ChemStation Texas, Houston, TX | 4 | 11-30-2011
11055-P | Stericycle Specialty Waste Solutions Inc., Blaine, MN | 4 | 11-30-2011
8196-P | International Equipment Leasing, AVENEL, NJ | 4 | 11-30-2011
12412-P | ChemStation of Kansas City, Grain Valley, MO | 4 | 11-30-2011
12905-P | Gumderson, LLC, Portland, OR | 4 | 11-30-2011
8723-P | SLT Express Way Inc., Glendale, AZ | 4 | 11-30-2011
7616-P | Iowa Northern Railway, GREENE, IA | 4 | 11-30-2011
7887-P | Barmes HazMat, Inc., Pacoima, CA | 4 | 11-30-2011
10880-P | WESCO, Midvale, UT | 4 | 11-30-2011
7887-P | PSC Industrial Outsourcing, LP dba Philip West Industrial Services, Long Beach, CA | 4 | 11-30-2011
8445-P | PSC Industrial Outsourcing, LP dba Philip West Industrial Services, Long Beach, CA | 4 | 11-30-2011
7887-P | 21st Century Environmental Management of California, LP, Santa Clara, CA | 4 | 12-31-2011
8445-P | Burlington Environmental, LLC, Tacoma, WA | 4 | 11-30-2011
11984-P | Burlington Environmental, LLC, Tacoma, WA | 4 | 11-30-2011
8445-P | Rho Chem, LLC, Inglewood, CA | 4 | 11-30-2011
11296-P | Waste Management National Services, Inc., Oak Park, IL | 4 | 11-30-2011
14173-P | Union Carbide Corporation, Hahnville, LA | 4 | 11-30-2011
10457-P | Thatcher Company of Nevada, Henderson, NV | 4 | 11-30-2011
Renewal Special Permits Applications
12858-R | The Dow Chemical Company, Philadelphia, PA | 4 | 11-30-2011
6691-R | Industrial Gas Distributors, (Show Cause Letter), Billings, MT | 4 | 11-30-2011
12744-R | AFL Network Services, Inc., Duncan, SC | 4 | 11-30-2011
10457-R | Thatcher Transportation, Inc., Salt Lake City, UT | 4 | 11-30-2011
8445-R | Northland Environmental, LLC, Providence, RI | 4 | 11-30-2011
8445-R | 21st Century Environmental Management, LLC of RI, Providence, RI | 4 | 11-30-2011
8757-R | Milton Roy Company, Ivyland, PA | 4 | 11-30-2011
6805-R | Air Liquide America LP, Houston, TX | 4 | 11-30-2011
8445-R | Chemical Pollution Control of FL, LLC, Deerfield Beach, FL | 4 | 11-30-2011
6691-R | Linde Gas Puerto Rico Inc, NEW PROVIDENCE, NJ | 4 | 11-30-2011
6691-R | Linde Gas North America LLC, NEW PROVIDENCE, NJ | 4 | 11-30-2011
11984-R | 21st Century Environmental Management, LLC of RI, Providence, RI | 4 | 11-30-2011
11984-R | Northland Environmental, LLC, (Northland), Providence, RI | 4 | 11-30-2011
11984-R | Chemical Pollution Control of FL, LLC, Deerfield Beach, FL | 4 | 11-30-2011
12095-R | Lyondell Basell Industeries (former Grantee Lyondell Chemical), Houston, TX | 4 | 11-30-2011
10650-R | Loveland Products, Inc., Billings, MT | 4 | 11-30-2011
10880-R | Hilltop Energy, Inc., Mineral City, OH | 4 | 11-30-2011
15073-R | Utility Aviation, Inc., Loveland, CO | 4 | 11-30-2011
5022-R | U.S. Department of Defense, Scott AFB, IL | 4 | 11-30-2011
5022-R | Aerojet Corporation, Culpeper, VA | 4 | 11-30-2011
5022-R | ATK Launch Systems Inc., Brigham City, UT | 4 | 11-30-2011
10458-R | Chemtrade Logistics Inc., Toronto, ON | 4 | 11-30-2011
11432-R | Baker Hughes Oilfield Operations, Inc (DBA Baker Atlas), Houston, TX | 4 | 11-30-2011
5022-R | ATK ABL, Rocket Center, WV | 4 | 11-30-2011
8995-R | BASF Corporation, Florham Park, NJ | 4 | 11-30-2011
12014-R | Trane Company, The, Charlotte, NC | 4 | 11-30-2011
12325-R | Air Liquide America L.P., Houston, TX | 4 | 11-30-2011
12412-R | FMC Corporation, Philadelphia, PA | 4 | 11-30-2011
8445-R | Philip Reclamation Services, Houston, LLC Houston, TX | 4 | 11-30-2011
8995-R | Flexible Products Company of Marietta, GA a wholly owned subsidiary of The Dow Chemical Company, Philadelphia, PA | 4 | 11-30-2011
10880-R | Dyno Nobel, Inc., Salt Lake City, UT | 4 | 11-30-2011
11043-R | Republic Environmental Systems, Pa. LLC, Hatfield, PA | 4 | 11-30-2011
11043-R | A & D Environmental Services (SC), LLC, Lexington, SC | 4 | 11-30-2011
11373-R | A & D Environmental Services (SC), LLC, Lexington, SC | 4 | 11-30-2011
11984-R | Allworth, LLC, Birmingham, AL | 4 | 11-30-2011
11984-R | Republic Environmental Systems (Pennsylvania) LLC, Hatfield, PA | 4 | 11-30-2011
13020-R | Bristol Bay Contractors, Inc., King Salmon, AK | 4 | 11-30-2011
13192-R | A & D Environmental Services (SC), LLC, Lexington, SC | 4 | 11-30-2011
14193-R | Honeywell International, Inc., Morristown, NJ | 4 | 11-30-2011
7887-R | Burlington Environmental, LLC, Tacoma, WA | 4 | 11-30-2011
8445-R | Advanced Waste Carriers, Inc., West Allis, WI | 4 | 11-30-2011
9275-R | Tommy Bahama Group, Inc., dba TBG, Inc., Auburn, WA | 4 | 11-30-2011
11215-R | Orbital Sciences Corporation, Mojave, CA | 4 | 11-30-2011
14823-R | FedEx Ground Package System, Inc., Moon Township, PA | 4 | 11-30-2011
2709-R | Aerojet Corporation, Culpeper, VA | 4 | 11-30-2011
11966-R | FMC Corporation, Philadelphia, PA | 4 | 11-30-2011
12325-R | Kraton Polymers, U.S. LLC, Belpre, OH | 4 | 11-30-2011
8915-R | Air Liquide America Specialty Gases LLC, Plumsteadville, PA | 4 | 11-30-2011
7887-R | PSC Recovery Systems, LLC, Dallas, TX | 4 | 11-30-2011
8445-R | PSC Recovery Systems, LLC, Dallas, TX | 4 | 11-30-2011
11984-R | PSC Recovery Systems, LLC, Dallas, TX | 4 | 11-30-2011
3004-R | Air Liquide America Specialty Gases LLC, Plumsteadville, PA | 4 | 11-30-2011
8156-R | Air Liquide America Specialty Gases LLC, Plumsteadville, PA | 4 | 11-30-2011
6805-R | Air Liquide America Specialty Gases LLC, Plumsteadville, PA | 4 | 11-30-2011
8723-R | Western Explosive Systems Company, DBA WESCO, Midvale, UT | 4 | 11-30-2011
14175-R | Dressel Welding Supply, Inc., Lancaster, PA | 4 | 11-30-2011
8156-R | Airgas, Inc., Cheyenne, WY | 4 | 11-30-2011
14828-R | Croman Corporation, White City, OR | 4 | 11-30-2011
6670-R | Linde Gas North America LLC, Murray Hill, NJ | 4 | 11-30-2011
8915-R | Linde Gas North America LLC, Murray Hill, NJ | 4 | 11-30-2011
11759-R | 3M, Saint Paul, MN | 4 | 11-30-2011
5022-R | Custom Analytical Engineering Systems, Inc., Flintstone, MD | 4 | 11-30-2011
8445-R | Effective Environmental, Inc., Mesquite, TX | 4 | 11-30-2011
14175-R | Dale Oxygen, Inc., Johnstown, PA | 4 | 11-30-2011
7887-R | Philip Reclamation Services, Houston, LLC, Houston, TX | 4 | 11-30-2011
10043-R | Texas Instruments Incorporated (“IT”), Dallas, TX | 4 | 11-30-2011
10880-R | Austin Powder Company, Cleveland, OH | 4 | 11-30-2011
12858-R | Union Carbide, North Seadrift, TX | 4 | 11-30-2011
4850-R | Honeywell International, Inc., Morristown, NJ | 4 | 11-30-2011
11227-R | Baker Hughes Oilfield Operations, Inc., dba Baker Atlas (Former Grantee: Baker Hughes), Houston, TX | 4 | 11-30-2011
9166-R | Hawk Leasing, Corp., Ardmore, OK | 4 | 11-30-2011
11110-R | United Parcel Services Company, Louisville, KY | 4 | 11-30-2011
4850-R | Halliburton Energy Services, Inc., Duncan, OK | 4 | 11-30-2011
6691-R | nexAir, LLC, Memphis, TN | 4 | 11-30-2011
14755-R | Tanner Industries Inc., SOUTHAMPTON, PA | 4 | 11-30-2011
3004-R | Air Liquide America L.P., Houston, TX | 4 | 11-30-2011
3004-R | Praxair Inc., Danbury, CT | 4 | 11-30-2011
3004-R | Praxair Distribution, Inc., Danbury, CT | 4 | 11-30-2011
4850-R | Department of Defense, Scott AFB, IL | 4 | 11-30-2011
7972-R | E.I. Du Pont de Nemours & Company, WILMINGTON, DE | 4 | 11-30-2011
8445-R | Precision Industrial Maintenance, Inc., Schenectady, NY | 4 | 11-30-2011
12283-R | Federal Aviation Administration, Alaskan Region (FAA), Anchorage, AK | 4 | 11-30-2011
10672-R | Burlington Packaging, Inc., Brooklyn, NY | 4 | 11-30-2011
8445-R | Heritage Transport, LLC, Indianapolis, IN | 4 | 11-30-2011
9623-R | Alaska Pacific Powder Company, Anchorage, AK | 4 | 11-30-2011
14791-R | Heliqwest International Inc., Montrose, CO | 4 | 11-30-2011
10985-R | Domtar A.W. Corp., Ashdown, AR | 4 | 11-30-2011
11073-R | E.I. du Pont de Nemours & Company, Wilmington, DE | 4 | 11-30-2011
8445-R | AET Environmental, Inc., DENVER, CO | 4 | 11-30-2011
970-R | Voltaix, Inc., North Branch, NJ | 4 | 11-30-2011
12335-R | Baker Hughes Oilfield Operations, Inc., dba Baker Atlas Division, Houston, TX | 4 | 11-30-2011
6691-R | ABCO Welding & Industrial Supply, Inc. (Show Cause Letter), Waterford, CT | 4 | 11-30-2011
10048-R | Maine LabPack, South Portland, ME | 4 | 11-30-2011
7887-R | Stericycle Specialty Waste Solutions Inc., Blaine, MN | 4 | 11-30-2011
8445-R | Stericycle Specialty Waste Solutions Inc., Blaine, MN | 4 | 11-30-2011
7954-R | Matheson Tri Gas, Inc., Basking Ridge, NJ | 4 | 11-30-2011
8445-R | SET Environmental, Inc., Wheeling, IL | 4 | 11-30-2011
8445-R | Clean Harbors Environmental Services, Inc., Norwell, MA | 4 | 11-30-2011
9623-R | Austin Powder Company, Cleveland, OH | 4 | 11-30-2011
13161-R | Honeywell International Inc., Morristown, NJ | 4 | 11-30-2011
4850-R | Accurate Energetic Systems, LLC, MC EWEN, TN | 4 | 11-30-2011
11043-R | AET Environmental, Inc., DENVER, CO | 4 | 11-30-2011
12095-R | Clean Harbors Environmental Services, Inc. Norwell, MA | 4 | 11-30-2011
6691-R | Matheson Tr-Gas, Inc., 9 (Show Cause Letters), Basking Ridge, NJ | 4 | 11-30-2011
7594-R | Bromine Compounds, Ltd., Beer Sheva, UT | 4 | 11-30-2011
9623-R | Buckley Powder Company, Englewood, CO | 4 | 11-30-2011
11348-R | BASF Corporation, Florham Park, NJ | 4 | 11-30-2011
7887-R | Photo Waste Recycling Co., Inc., San Raafel, CA | 4 | 11-30-2011
7887-R | Chemical Pollution Control of FL, LLC, Deerfield Beach, FL | 4 | 11-30-2011
7887-R | Northland Environmental, LLC, Providence, RI | 4 | 11-30-2011
12283-R | AT&T Alascom, Anchorage, AK | 4 | 11-30-2011
7887-R | 21st Century Environmental Management, LLC of RI, Providence, RI | 4 | 11-30-2011
11296-R | Environmental Waste Services, Inc., Elbum, IL | 4 | 11-30-2011
11296-R | Bay West, Inc., St. Paul, MN | 4 | 11-30-2011
13078-R | E.I. duPont de Nemours & Co., Wilmington, DE | 4 | 11-30-2011
8156-R | Gas Dynamics, a division of the Argus Group. Inc., Chesterfield, MI | 4 | 11-30-2011
7887-R | Chemical Pollution Control, LLC of New York, Bay Shore, NY | 4 | 11-30-2011
8445-R | Chemical Analytics, Inc., Romulus, MI | 4 | 11-30-2011
6805-R | Praxair Distribution Southeast, LLC, Tequesta, FL | 4 | 11-30-2011
6691-R | Praxair Distribution Southeast, LLC, Tequesta, FL | 4 | 11-30-2011
12412-R | American Development Corporation, Fayetteville, TN | 4 | 11-30-2011
970-R | BASF Corporation, Florham, NJ | 4 | 11-30-2011
7073-R | Afton Chemical Corporation, Richmond, VA | 4 | 11-30-2011
7073-R | Ethyl Corporation, Richmond, VA | 4 | 11-30-2011
8445-R | University of Vermont, Burlington, VT | 4 | 11-30-2011
12905-R | Texana Tank Car & Mfg., Ltd., Nash, TX | 4 | 11-30-2011
7616-R | B&H Rail Corporation (BH), The, Lakeville, NY | 4 | 11-30-2011
11984-R | American Eagle Airlines, Inc., DFW Airport, TX | 4 | 11-30-2011
7954-R | Solvay Fluorides, LLC, Houston, TX | 4 | 11-30-2011
7954-R | Solvay Fluor Korea Co., Ltd., Uliju-Kun, Ulsan Korea | 4 | 11-30-2011
10880-R | Buckley Powder Company, Englewood, CO | 4 | 11-30-2011
970-R | U.S. Department of Defense, Scott AFB, IL | 4 | 11-30-2011
12443-R | Thatcher Company of Nevada, Henderson, NV | 4 | 11-30-2011
8445-R | Environmental Products & Services, Inc., Syracuse, NY | 4 | 11-30-2011
14482-R | Classic Helicopters Limited, L.C., Woods Cross, UT | 4 | 11-30-2011
11318-R | W.R. Grace Grace-Conn, Columbia, MD | 4 | 11-30-2011
11759-R | E.I. duPont de Neumours & Company, Inc., Wilmington, DE | 4 | 11-30-2011
14550-R | Air Liquide Electronics Materials, F-71106 Chalon-sur-Saone Cedex | 4 | 11-30-2011
6691-R | Praxair, Inc., Danbury, CT | 4 | 11-30-2011
12905-R | American Railcar Leasing, St. Charles, MO | 4 | 11-30-2011
12905-R | Union Tank Car Company, Alexandria, VA | 4 | 11-30-2011
8445-R | Thunderbird Trucking, LLC, East Chicago, IL | 4 | 11-30-2011
11749-R | Occidental Chemical Corporation, Dallas, TX | 4 | 11-30-2011
12905-R | American Railcar Industries, St. Charles, MO | 4 | 11-30-2011
12905-R | GATX Rail Corporation, Chicago, IL | 4 | 11-30-2011
12905-R | G. E. Capital Rail Services, Chicago, IL | 4 | 11-30-2011
12905-R | Procor Limited, Oakville, ON | 4 | 11-30-2011
12905-R | Trinity Industries, Inc., Dallas, TX | 4 | 11-30-2011
11406-R | Conference of Radiation Control Program Directors, Inc., Frankfort, KY | 4 | 11-30-2011
8723-R | Nelson Brothers Mining Services, LLC, Birmingham, AL | 4 | 11-30-2011
7891-R | Aldrich Chemical Company Inc., Milwaukee, WI | 4 | 11-30-2011
11749-R | Union Tank Car Company, East Chicago, IN | 4 | 11-30-2011
6293-R | Dyno Nobel, Inc., Salt Lake City, UT | 4 | 11-30-2011
10656-R | Conference of Radiation Control Program Directors, Inc., Frankfort, KY | 4 | 11-30-2011
7835-R | Air Products & Chemicals, Inc., Allentown, PA | 4 | 11-30-2011
14385-R | Union Pacific Railroad Company, Omaha, NE | 4 | 11-30-2011
11502-R | Fed/Ex Express, Memphis, TN | 4 | 11-30-2011
8697-R | TEMSCO Helicopters, Inc., Ketchikan, AK | 4 | 11-30-2011
7887-R | Quest Aerospace, Inc., Pagosa Springs, CO | 4 | 11-30-2011
7835-R | Robbie D. Wood Inc., Dolomite, AL | 4 | 11-30-2011
12283-R | Interstate Battery of Alaska, Anchorage, AK | 4 | 11-30-2011
11502-R | UPS, Inc., Atlanta, GA | 4 | 11-30-2011
4884-R | Airgas, Inc., Cheyenne, WY | 4 | 11-30-2011
9157-R | Matheson Tri-Gas, Basking Ridge, NJ | 4 | 11-30-2011
7835-R | Airgas, Inc., Cheyenne, WY | 4 | 11-30-2011
12726-R | FedEx Express Corporation, Memphis, TN | 4 | 11-30-2011
6971-R | Chem Service, Inc., West Chester, PA | 4 | 11-30-2011
11660-R | Olsen Tuckpointing Company, Barrington, IL | 4 | 11-30-2011
7835-R | Air Liquide America L.P., Houston, TX | 4 | 11-30-2011
9778-R | Baker Atlas, Houston, TX | 4 | 11-30-2011
11984-R | Heritage Transport, LLC, Indianapolis, IN | 4 | 11-30-2011
10709-R | Nalco Company, Naperville, IL | 4 | 11-30-2011
7835-R | General Air Service & Supply, Denver, CO | 4 | 11-30-2011
14691-R | FedEx Express, Memphis, TN | 4 | 11-30-2011
5112-R | U.S. Department of Defense, SCOTT AIR FORCE BASE, IL | 4 | 11-30-2011
7887-R | EQ Industrial Services, Inc., Ypsilanti, MI | 4 | 11-30-2011
2709-R | U.S. Dept. of Defense (MSDDC), Scott AFB, IL | 4 | 11-30-2011
10709-R | Schlumberger Technologies Corporation, Sugar Land, TX | 4 | 11-30-2011
11055-R | Disposal Consultant Services, Inc., Piscataway, NJ | 4 | 11-30-2011
11984-R | American Airlines, Inc., Tulsa, OK | 4 | 11-30-2011
2787-R | Raytheon Company, Andover, MA | 4 | 11-30-2011
7887-R | Republic Environmental Systems, (Pennsylvania), LLC, Hatfield, PA | 4 | 11-30-2011
4850-R | Owen Oil Tools LP, Godley, TX | 4 | 11-30-2011
11043-R | A & D Environmental Services, Inc., Archdale, NC | 4 | 11-30-2011
9929-R | Alliant Techsystems Inc. Propulsion & Controls (Former Grantee ATK Elkton), Elkton, MD | 4 | 11-30-2011
11903-R | Comptank Corporation, Bothwell, ON | 4 | 11-30-2011
14741-R | Weatherford International, Fort Worth, TX | 4 | 11-30-2011
4850-R | Schlumberger Technology Corporation, Sugar Land, TX | 4 | 11-30-2011
8307-R | Sandia National Laboratories, Albuquerque, NM | 4 | 11-30-2011
3004-R | Air Products & Chemicals, Inc., Allentown, PA | 4 | 11-30-2011
6443-R | Marsulex Sulfides, Fort Saskatchewan, AB | 4 | 11-30-2011
8915-R | Praxair, Inc., Danbury, CT | 4 | 11-30-2011
9623-R | Orica USA Inc., Watkins, CO | 4 | 11-30-2011
10045-R | FedEx Express, Memphis, TN | 4 | 11-30-2011
11227-R | Schlumberger Well Services, a Division of Schlumberger Technology Corporation, Sugar Land, TX | 4 | 11-30-2011
4850-R | Ensign-Bickford Aerospace & Defense Company, Simsbury, CT | 4 | 11-30-2011

[FR Doc. 2011-25915 Filed 10-11-11; 8:45 am]

BILLING CODE 4910-60-M